DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than June 15, 2015.

ADDRESSES: Submit your comments to paperwork@hrsa.gov or mail the HRSA Information Collection Clearance Officer, Room 10C-03, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Maternal, Infant, and Childhood Home Visiting (Home Visiting) Program fiscal year (FY) 2012-FY 2017 Non-Competing Continuation Progress Report for Competitive Grants.

OMB No. 0915-0356—Extension.

Abstract: The Maternal, Infant, and Early Childhood Home Visiting (Home Visiting) Program, administered by HRSA in close partnership with the Administration for Children and Families (ACF), supports voluntary, evidence-based home visiting services during pregnancy and to parents with young children up to kindergarten entry. Competitive grants support the efforts of states and entities that have previously received formula-based Home Visiting awards and that have made significant progress towards a high-quality home visiting program or embedding their home visiting program into a comprehensive, high-quality early childhood system. Fifty states, the District of Columbia (DC), 5 territories, and eligible nonprofit organizations are eligible for competitive grants and must submit non-competing continuation progress reports annually.¹ There are currently 41 entities that have been awarded competitive grants. Some entities have been awarded more than one competitive grant.

¹ In the event of a new, 1-year Funding Opportunity Announcement for the competitive grant program, the application for new grant funds may be permitted by HRSA to replace a non-competing continuation progress report.

Need and Proposed Use of the Information: This information collection is needed for grant recipients to report progress under the Home Visiting Program annually. On March 23, 2010, the President signed into law the Patient Protection and Affordable Care Act (ACA). Section 2951 of the ACA amended title V of the Social Security Act by adding a new section 511, which authorized the Home Visiting Program (http://frwebgate.access.gpo.gov/cgi-bin/getdoc.cgi?dbname=111_cong_bills&docid=f:h3590enr.txt.pdf, pages 216-225). Funding for the Home Visiting program was extended by the Protecting Access to Medicare Act of 2014 (Pub. L. 113-93). A portion of funding made available under this program is awarded to participating states and eligible entities competitively.

The information collected will be used to review grantee progress on proposed project plans so as to assess whether the grantee is performing adequately to achieve the goals and objectives that were previously approved. This report will also provide implementation plans for the upcoming year, which will be assessed for consistency with the approved grant and assist the grantee in achieving implementation of a high-quality project that will complement the Home Visiting Program as a whole. Failure to collect this information could impair federal monitoring and oversight of the use of grant funds by grantees in keeping with legal and policy requirements. Grantees are required to provide a performance narrative with the following sections: Project identifier information, accomplishments and barriers; state home visiting program goals and objectives; update on the state home visiting program promising approach and evaluations conducted under the competitive grant; implementation of the state home visiting program in targeted at-risk communities; progress toward meeting legislatively-mandated reporting on benchmark areas; state home visiting quality improvement efforts; and updates on the administration of state home visiting program.

Since federal fiscal year 2011, 48 eligible entities have received competitive grant awards. Some grantees have been awarded up to three competitive grants to date. Grantees of the competitive grant program need to complete annual reports in order to comply with legal and policy reporting requirements.

Likely Respondents: Grantees with Home Visiting Competitive Awards Awarded in Federal FY 2013-FY 2017.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Summary progress on the following activities | Number of respondents | Number of responses per respondent | Total responses | Hours per response | Total burden hours
Home Visiting Competitive Grant Progress Report—FY 2012, FY 2013, FY 2014 | 37 | 1 | 37 | 25 | 925
Home Visiting Competitive Grant Progress Report—FY 2015 | 32 | 1 | 35 | 25 | 875
Home Visiting Competitive Grant Progress Report—FY 2016 FY 2017 | 47 | 2 | 94 | 25 | 2350
Total | 116 | 4 | 166 | 75 | 4150

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-08708 Filed 4-15-15; 8:45 am]

BILLING CODE 4165-15-P